DEPARTMENT OF AGRICULTURE

Forest Service

Jasper Fire Value Recovery EIS—Black Hills National Forest

AGENCY: Forest Service, USDA.

ACTION: Notice of intent to prepare an environmental impact statement.

SUMMARY: The Black Hills National Forest will prepare an environmental impact statement on a proposal to recover value from fire-killed timber within the Jasper Fire perimeter. The Jasper Fire burned approximately 83,500 acres in August and September 2000. Fire-killed ponderosa pine in the Black Hills is highly susceptible to damage from insects and fungus. Expectations are that wood quality within the fire area will decline at a moderate rate until mid-summer 2001. Wood quality is expected to decline rapidly after that point. The Forest Plan goals and objectives that will be met include minimizing public safety hazards through hazard tree removal, maintaining soil productivity and minimizing soil erosion, managing fuel loading, and capturing economic values associated with restoration treatments. The EIS will be designed to satisfy the requirements of the National Environmental Policy Act, 42 U.S.C. Sections 4321-4370a, and the National Forest Management Act, 16 U.S.C. 1600-1614, and their respective implementing regulations.

DATES: Comments concerning the scope of the analysis should be received on or before 30 days after publication of this notice in the Federal Register.

ADDRESSES: Send written comments to Mike Lloyd, District Ranger, Hell Canyon Ranger District, Black Hills National Forest, 330 Mt. Rushmore Road, Custer, SD 57730.

FOR FURTHER INFORMATION CONTACT: Kelly Honors, EIS Team Leader, (605) 673-4853.

SUPPLEMENTARY INFORMATION: The proposed action is to recover value from timber killed by the Jasper Fire. Specifically this includes removing up to 60 million board feet of timber, concentrating in areas with high volume per acre; removing timber in areas with high and moderate intensity burns only (trees 100% scorched or totally devoid of needles) except incidental removal of green trees where necessary to access harvest units; no new specified road construction (temporary roads may be utilized for access but would be closed post-harvest); and lastly, concentrating value recovery from areas with low susceptibility to soil erosion, compaction and water runoff. Resource protection measures are included as part of the proposed action. Mitigation measures will be included to protect resources such as mountain grasslands, snags, soils, heritage resources, water quality and wildlife.

Decision To Be Made

The Forest Service will prepare an EIS. The Forest Supervisor of the Black Hills National Forest will decide whether or not to implement this project, and if so, in what manner.

Responsible Official

John Twiss, Forest Supervisor, Black Hills National Forest, North Highway 385, Custer, South Dakota 57730 is the Responsible Official for this decision. He will document his decision in a Record of Decision.

Estimated Dates for Filing

The Draft EIS is expected to be filed with the Environmental Protection Agency (EPA) and to be available for public review by December 15, 2000. At that time EPA will publish a Notice of Availability of the draft EIS in the Federal Register. The comment period on the draft EIS will be 45 days from the date the EPA publishes the Notice of Availability in the Federal Register. It is very important that those interested in the management of this area participate at that time.

The final EIS is scheduled to be completed by March 2001. In the final EIS, the Forest Service is required to respond to comments and responses received during the comment period that pertain to the environmental consequences discussed in the draft EIS and applicable laws, regulations, and policies considered in making a decision regarding the proposal.

The Reviewers Obligation To Comment

The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: November 3, 2000.
John C. Twiss,
Forest Supervisor, Black Hills National Forest.

[FR Doc. 00-28766 Filed 11-8-00; 8:45 am]

BILLING CODE 3410-11-M